DEPARTMENT OF THE INTERIOR

National Park Service

Notice of Inventory Completion: Pacific Lutheran University, Tacoma, WA

AGENCY: National Park Service, Interior.

ACTION: Notice.

Notice is here given in accordance with the Native American Graves Protection and Repatriation Act (NAGPRA), 25 U.S.C. 3003, of the completion of an inventory of human remains and associated funerary objects in the possession of Pacific Lutheran University, Tacoma, WA. The human remains and associated funerary objects were removed from Walworth County, SD.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by Pacific Lutheran University professional staff in consultation with representatives of the Cheyenne River Sioux Tribe of the Cheyenne River Reservation and Three Affiliated Tribes of the Fort Berthold Reservation, North Dakota.

In 1932, human remains representing a minimum of two individuals were removed from a site near the mouth of Swan Creek, north of the town of LeBeau, Walworth County, SD, by Dr. W.H. Over, curator of the museum of South Dakota State University at Vermillion, SD. Subsequently, South Dakota State University transferred the human remains and associated funerary objects to a private collector, Jens Knudsen, a biology professor at the Pacific Lutheran University. Mrs. Knudsen, the widow of Mr. Knudsen, transferred the human remains and associated funerary objects to Pacific Lutheran University. No known individuals were identified. The 56 associated funerary objects are 1 string of small beads, 3 sets of glass beads on sinew from a garment, 2 glass beads attached to leather, 7 loose glass beads, 1 mirror fragment, 16 stone “bird” points, 10 stone “thumb nail” scrapers, 1 stone knife, 1 stone graver, 1 lot of cloth and leather fragments, 4 thong shapers, 1 lot of “needle bones,” 6 pottery sherds, 1 piece of carbonized corn, and 1 lot of red pigment.

Documentation that accompanied the collection from South Dakota State University indicates that the human remains and associated funerary objects were recovered from a site occupied by the “Ree” or Arikara Indians. The descendants of the Arikara are members of the Three Affiliated Tribes of the Fort Berthold Reservation, North Dakota.

Officials of Pacific Lutheran University have determined that, pursuant to 25 U.S.C. 3001 (9-10), the human remains described above represent the physical remains of two individuals of Native American ancestry. Officials of Pacific Lutheran University also have determined that, pursuant to 25 U.S.C. 3001 (3)(A), the 56 objects described above are reasonably believed to have been placed with or near individual human remains at the time of death or later as part of the death rite or ceremony. Lastly, officials of Pacific Lutheran University have determined that, pursuant to 25 U.S.C. 3001 (2), there is a relationship of shared group identity that can be reasonably traced between the Native American human remains and associated funerary objects and the Three Affiliated Tribes of the Fort Berthold Reservation, North Dakota.

Representatives of any other Indian tribe that believes itself to be culturally affiliated with the human remains should contact David R. Huelsbeck, Anthropology Department, Pacific Lutheran University, Tacoma, WA 98447, telephone (253) 535-7196, before September 18, 2006. Repatriation of the human remains and associated funerary objects to the Three Affiliated Tribes of the Fort Berthold Reservation, North Dakota may proceed after that date if no additional claimants come forward.

Pacific Lutheran University is responsible for notifying the Assiniboine and Sioux Tribes of the Fort Peck Indian Reservation, Montana; Cheyenne River Sioux Tribe of the Cheyenne River Reservation, South Dakota; Crow Creek Sioux Tribe of the Crow Creek Reservation, South Dakota; Lower Brule Sioux Tribe of the Lower Brule Reservation, South Dakota; Oglala Sioux Tribe of the Pine Ridge Reservation, South Dakota; Rosebud Sioux Tribe of the Rosebud Indian Reservation, South Dakota; Santee Sioux Nation, Nebraska; Standing Rock Sioux Tribe of North & South Dakota; and Three Affiliated Tribes of the Fort Berthold Reservation, North Dakota that this notice has been published.

Dated: July 7, 2006.
Sherry Hutt,
Manager, National NAGPRA Program.

[FR Doc. E6-13686 Filed 8-17-06; 8:45 am]

BILLING CODE 4312-50-S